DEPARTMENT OF VETERANS AFFAIRS

38 CFR Part 70

RIN 2900-AM02

Beneficiary Travel Under 38 U.S.C. 111 Within the United States; Correction

AGENCY: Department of Veterans Affairs.

ACTION: Correcting amendment.

SUMMARY: The Department of Veterans Affairs (VA) published a document in the Federal Register on June 30, 2008 (73 FR 36796), amending its beneficiary travel regulations that provide a mechanism for payment of travel expenses within the United States under 38 U.S.C. 111 to help veterans and other persons obtain care and services from VA's Veterans Health Administration (VHA). That document contained a typographical error. This document corrects that error.

DATES: Effective Date: August 28, 2008.

FOR FURTHER INFORMATION CONTACT: Tony Guagliardo, Chief Business Office (16), Veterans Health Administration, Department of Veterans Affairs, 810 Vermont Avenue, NW., Washington, DC 20420; (202) 254-0406. (This is not a toll-free number.)

SUPPLEMENTARY INFORMATION: On June 30, 2008, VA published a final rule in the Federal Register (73 FR 36796) amending its beneficiary travel regulation. The revised regulations, set forth at 38 CFR part 70, provide a mechanism for payment of travel expenses within the United States under 38 U.S.C. 111 to help veterans and other persons obtain care and services from VA's Veterans Health Administration. In making the necessary edits, a word was accidentally omitted in § 70.10(b). This document corrects the error in § 70.10(b) by removing “care services” and adding, in its place “care or services”.

List of Subjects in 38 CFR Part 70

Administrative practice and procedure, Alcohol abuse, Alcoholism, Claims, Day care, Dental health, Drug abuse, Foreign relations, Government contracts, Grant programs-health, Grant programs-veterans, Health care, Health facilities, Health professions, Health records, Homeless, Medical and dental schools, Medical devices, Medical research, Mental health programs, Nursing homes, Philippines, Reporting and recordkeeping requirements, Scholarships and fellowships, Travel and transportation expenses, Veterans.

William F. Russo,
Director of Regulations Management.

For the reason set out in the preamble, VA is correcting 38 CFR part 70 as follows:

PART 70—VHA BENEFICIARY TRAVEL UNDER 38 U.S.C. 111

1. The authority citation for part 70 continues to read as follows:

Authority: 38 U.S.C. 101, 111, 501, 1701, 1714, 1720, 1728, 1782, 1783, E.O 11302.

§ 70.10 [Amended]

2. In § 70.10, paragraph (b) is amended by removing “care services” and adding, in its place, “care or services”.

[FR Doc. E8-19961 Filed 8-27-08; 8:45 am]

BILLING CODE 8320-01-P